COMMISSION ON CIVIL RIGHTS

Agenda and Notice of Public Meeting of the New Mexico Advisory Committee

Notice is hereby given, pursuant to the provisions of the rules and regulations of the U.S. Commission on Civil Rights, that a meeting of the New Mexico State Advisory Committee will convene at 1 p.m. (MST) and adjourn at 4 p.m. (MST), Thursday, February 23, 2006, at the Courtyard Marriott Airport, 1920 Yale Blvd, Albuquerque, New Mexico 87106. The purpose of the meeting is to provide a status report on the Commission and regional programs, discuss the Farmington report, The Farmington Report: Civil Rights for Native Americans 30 Years Later, and future planning.

Persons desiring additional information, or planning a presentation to the Committee, should contact John F. Dulles, Director of the Rocky Mountain Regional Office, (303) 866-1040 (TDD 303-866-1049). Hearing-impaired persons who will attend the meeting and require the services of a sign language interpreter should contact the Regional Office at least ten (10) working days before the scheduled date of the meeting.

The meeting will be conducted pursuant to the provisions of the rules and regulations of the Commission.

Dated at Washington, DC February 1, 2006.
Ivy L. Davis,
Acting Chief, Regional Programs Coordination Unit.

[FR Doc. E6-1551 Filed 2-3-06; 8:45 am]

BILLING CODE 6335-01-P